DEPARTMENT OF COMMERCE

National Oceanic and Atmospheric Administration

[I.D. 081804A]

Pacific Fishery Management Council; Public Meeting

AGENCY: National Marine Fisheries Service, National Oceanic and Atmospheric Administration NOAA, Commerce.

ACTION: Notice of public meeting.

SUMMARY: The Pacific Fishery Management Council's (Council) Ad Hoc Groundfish Trawl Individual Quota Analytical Team (TIQ Analytical Team) will hold a working meeting which is open to the public.

DATES: The TIQ Analytical Team working meeting will begin Tuesday, September 7, 2004, at 9:30 a.m. and may go into the evening if necessary to complete business for the day. The meeting will reconvene at 8 a.m. and continue until business for the day is complete on Wednesday, September 8, 2004.

ADDRESSES: The meeting will be held in the Jefferson Room at the Sheraton Portland Airport Hotel, 8235 NE. Airport Way, Portland, OR 97220; telephone: 503-281-2500.

Council address: Pacific Fishery Management Council, 7700 NE. Ambassador Place, Suite 200, Portland, OR 97220-1384.

FOR FURTHER INFORMATION CONTACT: Mr. Jim Seger, Staff Officer (Economist); telephone: 503-820-2280.

SUPPLEMENTARY INFORMATION: The purpose of the TIQ Analytical Team meeting is to review the results from the public scoping plan, review progress on analytical tasks, and discuss the organization and assignments for drafting an Environmental Impact Statement. Although non-emergency issues not contained in the TIQ Analytical Team meeting agenda may come before the group for discussion, those issues may not be the subject of formal committee action during these meetings. TIQ Analytical Team action will be restricted to those issues specifically listed in this notice and to any issues arising after publication of this notice requiring emergency action under Section 305(c) of the Magnuson-Stevens Fishery Conservation and Management Act, provided the public has been notified of the group's intent to take final action to address the emergency.

Special Accommodations

The meeting is physically accessible to people with disabilities. Requests for sign language interpretation or other auxiliary aids should be directed to Ms. Carolyn Porter at 503-820-2280 at least 5 days prior to the meeting date.

Dated: August 19, 2004.
Alan D. Risenhoover,
Acting Director, Office of Sustainable Fisheries, National Marine Fisheries Service.

[FR Doc. E4-1885 Filed 8-23-04; 8:45 am]

BILLING CODE 3510-22-S